NUCLEAR REGULATORY COMMISSION

Documents Containing Reporting or Recordkeeping Requirements: Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: Proposed rule, “Geological and Seismological Characteristics for the Siting and Design of Dry Cask Independent Spent Fuel Storage Installations and Monitored Retrievable Storage Installations” which would amend 10 CFR part 72, “Licensing Requirements for the Independent Storage of Spent Nuclear Fuel, High-Level Radioactive Waste, and Reactor-Related Greater Than Class C Waste.”

3. The form number if applicable: Not applicable.

4. How often the collection is required: Specific license applications are only required to be submitted for the initial license, for the Certificate of Compliance, for amendments, and for renewal every 20 years (40 years for a monitored retrievable storage installation). General licenses for a dry cask independent spent fuel storage installation are issued under § 72.210 to persons authorized to possess a NPP license under part 50, without filing a part 72 license application. General licensees are required under § 72.212(b)(2) to retain as a record on site, a copy of the written evaluation until spent fuel is no longer stored under the general license issued under § 72.210.

5. Who will be required or asked to report: New specific licensees and applicants under 72.7 and 72.16 (reporting). General licensees under 72.212(b)(2) (recordkeeping).

6. An estimate of the number of responses: (8.5).

7. The estimated number of annual respondents: (8.5) (—1.5 reporting under sections 72.7 and 72.16 and —7 recordkeepers under 72.212(b)(2)).

8. An estimate of the total number of hours needed annually to complete the requirement or request: (466) (-7,406 hours for reporting and 6,940 hours for recordkeeping).

9. An indication of whether section 3507(d), Public Law 104-13 applies: Not applicable.

10. Abstract: 10 CFR part 72 establishes requirements, procedures, and criteria for the issuance of licenses to receive, transfer, and possess power reactor spent fuel and other radioactive materials associated with spent fuel storage in a dry cask independent spent fuel storage installation, and requirements for the issuance of licenses to the Department of Energy to receive, transfer, package, and possess power reactor spent fuel and high-level radioactive waste, and other associated radioactive materials, in a monitored retrievable storage installation. The proposed amendments would make the part 72 regulations compatible with the 1996 revision to 10 CFR part 100 that addressed uncertainties in seismic hazard analysis, and commensurate with the risk associated with a dry cask independent spent fuel storage installation or a monitored retrievable storage installation. The proposed amendments would also specify that general licensees evaluate dynamic loads, as well as static loads, in the design of cask storage pads and areas. These proposed amendments would make the part 72 requirements more effective and efficient and reduce the burden on licensees and on the NRC, without an adverse effect on public health and safety, or on the environment.

Submit, by August 23, 2002, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the submittal may be viewed free of charge at the NRC Public Document Room, One White Flint North, 11555 Rockville Pike, Room O-1 F23, Rockville, MD 20852. The proposed rule indicated in “The title of the information collection” is or has been published in the Federal Register within several days of the publication date of this Federal Register Notice. The OMB clearance package and rule are available at the NRC WorldWide Web site: http://www.nrc.gov/public-involve/doc-comment/omb/index.html for 60 days after the signature date of this notice and are also available at the rule forum site, http://ruleforum.llnl.gov.

Comments and questions should be directed to the OMB reviewer by August 23, 2002, Bryon Allen, Office of Information and Regulatory Affairs (3150-0132), NEOB-10202, Office of Management and Budget, Washington DC 20503.

Comments can also be submitted by telephone at (202) 395-3087.

The NRC Clearance Officer is Brenda Jo. Shelton, 301-415-7233.

Dated at Rockville, Maryland, this 17th day of July 2002.
For the Nuclear Regulatory Commission.
Brenda Jo. Shelton,
NRC Clearance Officer, Office of the Chief Information Officer.

[FR Doc. 02-18746 Filed 7-23-02; 8:45 am]

BILLING CODE 7590-01-P